MARINE MAMMAL COMMISSION

Sunshine Act Meeting Notice

TIME AND DATE: The Marine Mammal Commission will meet in open session on Monday, Tuesday, and Wednesday, 10-12 December 2012, from 9:00 p.m. to 5:00 p.m.

PLACE: The Anchorage Marriott Downtown, 820 West 7th Avenue, Anchorage, Alaska, 99501, telephone (907) 279-8000.

STATUS: The Commission expects that all portions of the meeting will be open to the public. It will allow public participation as time permits and as determined to be desirable by the Chairman. Should it be determined that it is appropriate to close a portion of the meeting to the public, any such closure will be carried out in accordance with applicable regulations (50 CFR § 560.5 and 560.6).

Seating for members of the public may be limited. The Commission therefore asks that those intending to attend the meeting advise it in advance by sending an email to the Commission at mmc@mmc.gov or by calling (301) 504-0087.

MATTERS TO BE CONSIDERED: The Commission plans to meet with representatives of other federal agencies, Alaska Native organizations, the Environmental Law Institute, and other interested parties to review and seek ways to improve consultations between federal agencies and Alaska Native Tribes. The focus will be on the consultation process and will include, but not be limited to, matters involving marine mammals. In the course of the meeting, the Commission expects to discuss issues related to the authorities for Alaska Native consultations, the role of the Indigenous People's Council for Marine Mammals (IPCoMM) in consultations, the relationship between consultation and co-management, and lessons learned from conflict avoidance agreements. The meeting agenda will be posted on the Commission's Web site (http://www.mmc.gov) when it has been finalized.

CONTACT PERSON FOR MORE INFORMATION: Timothy J. Ragen, Executive Director, Marine Mammal Commission, 4340 East-West Highway, Room 700, Bethesda, MD 20814; (301) 504-0087; email: tragen@mmc.gov.

Dated: November 26, 2012.
Timothy J. Ragen,
Executive Director.

[FR Doc. 2012-28905 Filed 11-26-12; 4:15 pm]

BILLING CODE 6820-31-P